DEPARTMENT OF COMMERCE

National Telecommunications and Information Administration

Notice: Continuity of Business (via satellite) Summit

AGENCY: National Telecommunications and Information Administration (NTIA), U.S. Department of Commerce.

ACTION: Notice of Public Meeting.

SUMMARY: NTIA will co-sponsor a conference entitled “Continuity of Business (via satellite) Summit: Acquiring Robust Communications Capability to Prepare for Natural and Man-Made Disasters” with the Satellite Industry Association and the U.S. Chamber of Commerce. The agenda will focus on the importance of satellite communications for the continuity of business which may be interrupted during a natural disaster, cyber attack, or other terrorist action.

DATES: The Continuity of Business (via satellite) Summit will take place Thursday, September 21, 2006, 9:00 AM to noon.

ADDRESSES: The public meeting will be held at the U.S. Chamber of Commerce, 1615 H Street, N.W., Washington, DC 20062-2000.

FOR FURTHER INFORMATION CONTACT: Persons interested in attending the Continuity of Business (via Satellite) Summit should contact Helen Shaw, Critical Infrastructure Protection Program, Office of the Assistant Secretary, National Telecommunications and Information Administration, 1401 Constitution Avenue, N.W., Room 7846, Washington, DC, 20230; by facsimile transmission to (202) 482-1189; or by electronic mail to hshaw@ntia.doc.gov. Information for the Summit is also available through the U.S. Chamber of Commerce at www.uschamber.com.

SUPPLEMENTARY INFORMATION: Background. Recent world events, such as the massive hurricanes in the Southern United States, and terrorist actions, such as the bombing of the World Trade Centers, and the potentiality of such events occurring in the future, such as cyber attacks, have demonstrated the need for additional communications channels to prevent communications outages among our nation's businesses and industry. Each of these events, both natural and man-caused, has the potential to interrupt communications costing businesses millions of dollars in lost sales and productivity. For these reasons, a national level discussion addressing additional communications channels is both timely and essential to our nation's economic security and viability.

The Department of Commerce has the lead responsibility for the “economic security” component of critical infrastructure protection, and coordinates these efforts with the Department of Homeland Security (DHS), Department of the Treasury and the Federal Trade Commission (FTC). Acting on behalf of the Department of Commerce, NTIA addresses continuity-of-business/disaster recovery efforts of companies that complement critical infrastructure companies, which are vital to the economy and orderly functioning of society. The focus on continuity of business and disaster recovery communications is based on the premise that wireline, wireless and Internet (including Virtual Private Network (VPN)) capabilities might fail or become saturated as a result of a physical or cyber attack. In such emergency situations, it will be necessary to make use of additional communications capability (e.g., satellite links or HF point-to-point and broadcast transmissions).

The Summit will provide a forum primarily for industry representatives to discuss issues related to continuity of business and disaster recovery - such as estimates of current/projected “take-up” costs and the “business case” for investing in additional communications, incentives, identification of leaders (e.g., companies and associations), and approaches to education and awareness. The government's role will support education and awareness rather than fund this private sector-led effort.

Public Participation: The meeting will be open to the public and press on a first-come, first- served basis. Space is limited. The public meeting is physically accessible to people with disabilities. Individuals requiring special services, such as sign language interpretation or other ancillary aids are asked to indicate this to Ms. Shaw at least five (5) days prior to the meeting. The Summit will be webcast. Webcast information and the meeting agenda and a list of speakers will be posted on NTIA's website, www.ntia.doc.gov, the U.S. Chamber of Commerce's website, www.uschamber.com, and the Satellite Industry Association's website, www.sia.org, one week prior to the meeting.

Dated: August 22, 2006.
Kathy D. Smith,
Chief Counsel, National Telecommunications and Information Administration.

[FR Doc. E6-14121 Filed 8-24-06; 8:45 am]

BILLING CODE 3510-60-S